DEPARTMENT OF JUSTICE

[OMB Number 1110-0004]

Agency Information Collection Activities; Proposed eCollection; eComments Requested; Revision of a Currently Approved Collection; Number of Law Enforcement Employees as of October 31

AGENCY: Federal Bureau of Investigation, Department of Justice.

ACTION: 30-Day notice.

SUMMARY: The Department of Justice, Federal Bureau of Investigation, Criminal Justice Information Services Division, will be submitting the following information collection request to the Office of Management and Budget for review and approval in accordance with the Paperwork Reduction Act of 1995.

DATES: Comments are encouraged and will be accepted for 30 days until December 23, 2021.

FOR FURTHER INFORMATION CONTACT: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Revision of a currently approved collection.

2. The Title of the Form/Collection: Number of Law Enforcement Employees as of October 31.

3. The agency form number, if any, and the applicable component of the Department sponsoring the collection: The form number is: 1-711. The applicable component within the Department of Justice is the Criminal Justice Information Services Division, in the Federal Bureau of Investigation.

4. Affected public who will be asked or required to respond, as well as a brief abstract: Primary: Federal, state, county, city, and tribal law enforcement agencies. Abstract: Under Title 34, United States Code Section (§ ) 41303 and 28 U.S.C. 534, this collection requests the number of full- and part-time law enforcement employees by race/ethnicity for both officers and civilians, from federal, state, county, city, and tribal law enforcement agencies in order for the Federal Bureau of Investigation Uniform Crime Reporting Program to serve as the national clearinghouse for the collection and dissemination of police employee data and to publish these statistics in Crime in the United States.

5. An estimate of the total number of respondents and the amount of time estimated for an average respondent to respond: There are approximately 14.993 law enforcement agency respondents that submit once a year for a total of 14,993 responses with an estimated response time of eight minutes per response.

6. An estimate of the total public burden (in hours) associated with the collection: There are approximately 2,299 hours, annual burden, associated with this information collection. There are approximately 2,299 hours, annual burden, associated with this information collection. This total is comprised of 1,999 hours estimated burden for completion of the survey and an additional 300 hours for review and any potential expansion of participating agencies.

If additional information is required contact: Melody Braswell, Department Clearance Officer, United States Department of Justice, Justice Management Division, Policy and Planning Staff, Two Constitution Square, 145 N Street NE, 3E.405A, Washington, DC 20530.

Dated: November 18, 2021.
Melody Braswell,
Department Clearance Officer for PRA, U.S. Department of Justice.

[FR Doc. 2021-25564 Filed 11-22-21; 8:45 am]

BILLING CODE 4410-02-P